DEPARTMENT OF COMMERCE

International Trade Administration

[A-580-872, A-580-878, A-580-881, A-580-883, A-580-887, A-580-891]

Non-Oriented Electrical Steel From the Republic of Korea, Certain Corrosion-Resistant Steel Products From the Republic of Korea, Certain Cold-Rolled Steel Flat Products From the Republic of Korea, Certain Hot-Rolled Steel Flat Products From the Republic of Korea, Certain Carbon and Alloy Steel Cut-to-Length Plate From the Republic of Korea, and Carbon and Alloy Steel Wire Rod From the Republic of Korea: Final Results of Antidumping Duty Changed Circumstances Review

AGENCY: Enforcement and Compliance, International Trade Administration, Department of Commerce.

SUMMARY: On July 13, 2022, the U.S. Department of Commerce (Commerce) published the notice of initiation and preliminary results of a changed circumstances review (CCR) of the antidumping duty (AD) orders on non-oriented electrical steel, certain corrosion-resistant steel products, certain cold-rolled steel flat products, certain hot-rolled steel flat products, certain carbon and alloy steel cut-to-length plate, and carbon and alloy steel wire rod from the Republic of Korea (Korea). For these final results, Commerce continues to find that POSCO, following a corporate organizational change in March 2022 (hereinafter, POSCO(II)), is the successor-in-interest to the pre-reorganization POSCO entity (hereinafter, POSCO(I)). Furthermore, POSCO(II) is entitled to POSCO(I)'s AD cash deposit rates with respect to entries of subject merchandise in each of the above-referenced proceedings.

DATES: Applicable August 30, 2022.

FOR FURTHER INFORMATION CONTACT: Christopher Maciuba, AD/CVD Operations, Office V, Enforcement and Compliance, International Trade Administration, U.S. Department of Commerce, 1401 Constitution Avenue NW, Washington, DC 20230; telephone: (202) 482-0413.

SUPPLEMENTARY INFORMATION:

Background

On July 13, 2022, Commerce published the Initiation and Preliminary Results,¹ finding that POSCO(II) is the successor-in-interest to POSCO(I), and should be assigned the same AD cash deposit rate assigned to POSCO(I) in in each of the above-referenced proceedings.² In the Initiation and Preliminary Results, we provided all interested parties with an opportunity to comment and request a public hearing regarding our preliminary finding.³ POSCO(II) submitted comments agreeing with our preliminary findings in full, and we received no other comments from interested parties.⁴ Additionally, we received no requests for a public hearing from interested parties.

¹ See Non-Oriented Electrical Steel from the Republic of Korea, Certain Corrosion-Resistant Steel Products from the Republic of Korea, Certain Cold-Rolled Steel Flat Products from the Republic of Korea, Certain Hot-Rolled Steel Flat Products from the Republic of Korea, Certain Carbon and Alloy Steel Cut-to-Length Plate from the Republic of Korea, and Carbon and Alloy Steel Wire Rod from the Republic of Korea: Notice of Initiation and Preliminary Results of Antidumping Duty Changed Circumstances Review, 87 FR 41661 (July 13, 2022) (Initiation and Preliminary Results), and accompanying Preliminary Decision Memorandum.

² See Initiation and Preliminary Results, 87 FR at 41662.

³ Id., 87 FR at 41663.

⁴ See POSCO(II)'s Letter, “Non-Oriented Electrical Steel, Certain Corrosion-Resistant Steel Products, Certain Cold-Rolled Steel Flat Products, Certain Hot-Rolled Steel Flat Products, Certain Carbon and Alloy Steel Cut-to-Length Plate, and Carbon and Alloy Steel Wire Rod from the Republic of Korea, Case Nos. A-580-872, A-580-878, A-580-881, A-580-883, A-580-887, and A-580-891: POSCO's Case Brief,” dated July 27, 2022.

Scope of the Orders

The merchandise covered by the orders is non-oriented electrical steel, certain corrosion-resistant steel products, certain cold-rolled steel flat products, certain hot-rolled steel flat products, certain carbon and alloy steel cut-to-length plate, and carbon and alloy steel wire rod from Korea. For a complete description of the scope of each of the respective orders, see the Preliminary Decision Memorandum.

Final Results of the Changed Circumstances Review

For the reasons stated in the Initiation and Preliminary Results, and because we received no comments from interested parties to the contrary, Commerce continues to find that POSCO(II) is the successor-in-interest to POSCO(I) and is entitled to the same AD cash deposit rate as POSCO(I) with respect to entries of subject merchandise in the above-noted proceedings.

Administrative Protective Order

This notice serves as the only reminder to parties subject to administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216 and 351.221(c)(3).

Dated: August 23, 2022.
Lisa W. Wang,
Assistant Secretary for Enforcement and Compliance.

[FR Doc. 2022-18581 Filed 8-29-22; 8:45 am]

BILLING CODE 3510-DS-P